DEPARTMENT OF ENERGY

Federal Energy Regulatory Commission

Combined Notice of Filings #1

Take notice that the Commission received the following electric rate filings:

Docket Numbers: ER10-1569-008; ER10-2791-008; ER10-2792-008; ER10-1575-006; ER11-2062-009; ER12-2413-006; ER10-1291-010; ER11-2508-008; ER11-4307-009; ER12-261-008; ER10-2876-008; ER10-2888-009; ER10-2914-009; ER10-2931-008; ER13-1965-003; ER11-4308-009; ER11-2805-008; ER10-3143-010

Applicants: NRG Power Marketing LLC, Bayou Cove Peaking Power LLC, Big Cajun I Peaking Power LLC, CottonWood Energy Company LP, Energy Plus Holdings LLC, Energy Alternatives Wholesale, LLC, GenConn Energy LLC, GenOn Energy Management, LLC, Green Mountain Energy Company, Independence Energy Group LLC, Louisiana Generating LLC, Norwalk Power LLC, NRG New Jersey Energy Sales LLC, NRG Sterlington Power LLC, NRG Wholesale Generation LP, Reliant Energy Northeast LLC, RRI Energy Services, LLC, Sabine Cogen, LP

Description: Notice of Non-Material Change in Status of NRG MBR Entities.

Filed Date: 1/22/14.

Accession Number: 20140122-5241.

Comments Due: 5 p.m. ET 2/12/14.

Docket Numbers: ER10-3125-007; ER10-3243-002; ER10-3102-007; ER10-3245-001; ER10-3249-001; ER10-3250-001; ER10-3169-005; ER10-3100-007; ER12-2570-003; ER11-2639-001; ER10-3143-009; ER13-821-003; ER10-3107-007; ER10-3109-007; ER13-618-002; ER12-1301-002

Applicants: AL Sandersville, LLC, Chandler Wind Partners, LLC, Effingham County Power, LLC, Foote Creek II, LLC, Foote Creek III, LLC, Foote Creek IV, LLC, Michigan Power Limited Partnership, MPC Generating, LLC, Panther Creek Power Operating, LLC, Ridge Crest Wind Partners, LLC, Sabine Cogen, LP, Scrubgrass Generating Company, L.P., Walton County Power, LLC, Washington County Power, LLC, Westwood Generation, LLC, Zone J Tolling Co., LLC.

Description: Notice of Non-Material Change in Status of AL Sandersville, LLC, et al.

Filed Date: 1/22/14.

Accession Number: 20140122-5225.

Comments Due: 5 p.m. ET 2/12/14.

Docket Numbers: ER10-3145-004; ER10-3147-004; ER13-442-001; ER10-3116-004; ER10-3120-004; ER11-2036-004; ER13-1544-001; ER10-3128-004; ER13-1139-003; ER10-1800-004; ER10-3136-004; ER11-2701-006; ER10-1728-004; ER10-2491-004; ER97-2904-012; ER97-4222-003; ER11-3131-001.

Applicants: AES Alamitos, LLC, AES Armenia Mountain Wind, LLC, AES Beaver Valley, LLC, AES Energy Storage, LLC, AES Huntington Beach, L.L.C., AES Laurel Mountain LLC, AES ES Tait, LLC, AES Redondo Beach, L.L.C., Condon Wind Power, LLC, Imperial Valley Solar 1, LLC, Indianapolis Power & Light Company, Mountain View Power Partners, LLC, The Dayton Power and Light Company, DPL Energy, LLC,LAKE BENTON POWER PARTNERS LLC, Storm Lake Power Partners II, LLC, Mountain View Power Partners IV, LLC.

Description: Supplement to July 1, 2013 Triennial Market Power Update for the Southwest Region of AES MBR Affiliates.

Filed Date: 1/22/14.

Accession Number: 20140122-5220.

Comments Due: 5 p.m. ET 2/5/14.

Docket Numbers: ER10-3168-008; ER13-445-002; ER11-4063-002; ER11-4060-002; ER11-4061-002.

Applicants: ArcLight Energy Marketing, LLC, Badger Creek Limited, Double “C” Limited, High Sierra Limited, Kern Front Limited.

Description: Notice of Non-Material Change in Status of ArcLight Energy Marketing, LLC, et al.

Filed Date: 1/22/14.

Accession Number: 20140122-5224.

Comments Due: 5 p.m. ET 2/12/14.

Docket Numbers: ER12-1179-016.

Applicants: Southwest Power Pool, Inc.

Description: Implementation of Order No. 745 in the Integrated Marketplace to be effective 3/1/2014.

Filed Date: 1/22/14.

Accession Number: 20140122-5174.

Comments Due: 5 p.m. ET 2/12/14.

Docket Numbers: ER12-1589-002.

Applicants: Public Service Company of Colorado.

Description: 2014-01-22_Att-O_PSCo_Formula_Rate_Filing to be effective 11/17/2012.

Filed Date: 1/22/14.

Accession Number: 20140122-5211.

Comments Due: 5 p.m. ET 2/12/14.

Docket Numbers: ER13-238-002.

Applicants: Appalachian Power Company.

Description: Sporn Operating Agreement Compliance Filing to be effective 1/1/2014.

Filed Date: 1/22/14.

Accession Number: 20140122-5179.

Comments Due: 5 p.m. ET 2/12/14.

Docket Numbers: ER13-239-002.

Applicants: Kentucky Power Company.

Description: Mitchell Operating Agreement Compliance Filing to be effective 1/1/2014.

Filed Date: 1/22/14.

Accession Number: 20140122-5180.

Comments Due: 5 p.m. ET 2/12/14.

Docket Numbers: ER13-2452-001.

Applicants: California Independent System Operator Corporation.

Description: 2014-01-22_RIMPR1_BCR_Compliance to be effective 4/1/2014.

Filed Date: 1/22/14.

Accession Number: 20140122-5204.

Comments Due: 5 p.m. ET 2/12/14.

Docket Numbers: ER13-2468-001.

Applicants: Midcontinent Independent System Operator, Inc.

Description: 2014-01-22_Docket No. ER13-2468-000_CMMPA Compliance Filing to be effective 1/1/2014 .

Filed Date: 1/22/14.

Accession Number: 20140122-5154.

Comments Due: 5 p.m. ET 2/12/14.

Docket Numbers: ER13-2490-004.

Applicants: Simon Solar Farm, LLC.

Description: Notice of Non-Material Change in Status of Simon Solar Farm, LLC.

Filed Date: 1/22/14.

Accession Number: 20140122-5226.

Comments Due: 5 p.m. ET 2/12/14.

Docket Numbers: ER14-663-001.

Applicants: Energy Discounters, LLC.

Description: Amendment to 1 to be effective 12/18/2013.

Filed Date: 1/22/14.

Accession Number: 20140122-5138.

Comments Due: 5 p.m. ET 2/12/14.

Docket Numbers: ER14-1134-000.

Applicants: Sabine Cogen, LP.

Description: Sabine Filing in Compliance with Order No. 784 to be effective 1/23/2014.

Filed Date: 1/22/14.

Accession Number: 20140122-5177.

Comments Due: 5 p.m. ET 2/12/14.

Docket Numbers: ER14-1135-000.

Applicants: Renewable Power Direct, LLC.

Description: Original Volume No. 1 to be effective 4/1/2014.

Filed Date: 1/22/14.

Accession Number: 20140122-5193.

Comments Due: 5 p.m. ET 2/12/14.

Docket Numbers: ER14-1136-000.

Applicants: PJM Interconnection, L.L.C.

Description: Original Service Agreement No. 3741—Queue Position Y3-012 to be effective 12/23/2013.

Filed Date: 1/22/14.

Accession Number: 20140122-5194.

Comments Due: 5 p.m. ET 2/12/14.

Docket Numbers: ER14-1137-000.

Applicants: Pheasant Run Wind, LLC.

Description: Pheasant Run Wind, LLC Common Facilities Agreement to be effective 1/23/2014.

Filed Date: 1/22/14.

Accession Number: 20140122-5212.

Comments Due: 5 p.m. ET 2/12/14.

Docket Numbers: ER14-1138-000.

Applicants: New York Independent System Operator, Inc.

Description: Request for Waiver, Shortened Comment Period and Expedited Commission Action of New York Independent System Operator, Inc.

Filed Date: 1/22/14

Accession Number: 20140122-5219.

Comments Due: 5 p.m. ET 1/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2014.
Nathaniel J. Davis, Sr.,
Deputy Secretary.

[FR Doc. 2014-02051 Filed 1-30-14; 8:45 am]

BILLING CODE 6717-01-P